DEPARTMENT OF JUSTICE

Foreign Claims Settlement Commission

Completion of Claims Adjudication Program

AGENCY: Foreign Claims Settlement Commission of the United States, Justice.

ACTION: Notice.

SUMMARY: This notice announces the completion date of the claims adjudication program referred to the Foreign Claims Settlement Commission (“Commission”) by the Department of State by letter dated November 27, 2013 (the “Libya III program”), involving claims of United States nationals against the Government of Libya that were settled under the “Claims Settlement Agreement Between the United States of America and the Great Socialist People's Libyan Arab Jamahiriya,” dated August 14, 2008. By prior notice, the Commission announced the commencement of the Libya III program on December 13, 2013 (78 FR 75944).

DATES: The completion date of the Libya III program is April 6, 2018. A petition to reopen a claim filed in the Libya III program must be filed not later than February 5, 2018 (60 days before the completion date). 45 CFR 509.5(l).

FOR FURTHER INFORMATION CONTACT: Brian M. Simkin, Chief Counsel, Foreign Claims Settlement Commission of the United States, 600 E Street NW, Room 6002, Washington, DC 20579, Tel. (202) 616-6975, FAX (202) 616-6993.

Notice of Completion of Claims Adjudication Program

Pursuant to the authority conferred upon the Secretary of State and the Commission under subsection 4(a)(1)(C) of Title I of the International Claims Settlement Act of 1949 (Pub. L. 455, 81st Cong., approved March 10, 1950, as amended by Public Law 105-277, approved October 21, 1998 (22 U.S.C. 1623(a)(1)(C))), the Foreign Claims Settlement Commission hereby gives notice that on April 6, 2018, the Commission will complete the claims adjudication programs referred to the Commission by the Department of State by letter dated November 27, 2013 (the “Libya III program”), involving claims of United States nationals against the Government of Libya that were settled under the “Claims Settlement Agreement Between the United States of America and the Great Socialist People's Libyan Arab Jamahiriya,” dated August 14, 2008.

Brian M. Simkin,
Chief Counsel.

[FR Doc. 2018-01047 Filed 1-19-18; 8:45 am]

BILLING CODE 4410-01-P